DEPARTMENT OF ENERGY

Federal Energy Regulatory Commission

[Docket No. CP23-507-000]

Equitrans, L.P.; Notice of Schedule for the Preparation of An Environmental Assessment for the Swarts And Hunters Cave Well Replacement Project

On June 30, 2023, Equitrans, L.P. (Equitrans) filed an application in Docket No. CP23-507-000 requesting a Certificate of Public Convenience and Necessity pursuant to section 7(c) and Authorization pursuant to section 7(b) of the Natural Gas Act to construct, operate, and abandon certain natural gas pipeline facilities in Greene County, Pennsylvania. The proposed project is known as the Swarts and Hunters Cave Well Replacement Project (Project) and would: abandon a series of wells by sale, abandon well lines in place and any associated appurtenant facilities; construct and operate two horizontal storage wells; acquire pipelines and related equipment to serve as well lines and auxiliary facilities for the Swarts Horizontal Storage Well; and sell base gas from the Swarts Complex.

On July 18, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA December 8, 2023

90-day Federal Authorization Decision Deadline ² March 7, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Equitrans proposes to abandon, construct, and operate certain facilities within the Swarts Complex and Hunters Cave Storage Fields in Greene County, Pennsylvania. According to Equitrans, the Swarts and Hunters Cave Well Replacement Project is necessary because of planned mining activity from CONSOL Pennsylvania Coal Company LLC (CONSOL). According to Pennsylvania state law, any active storage well within 2,000 feet of mining activities would need to be plugged or upgraded to current mining standards. The Swarts and Hunters Cave Well Replacement Project would consist of the following:

• abandonment by-sale of a series of 19 injection/withdrawal wells at Equitrans' Hunters Cave Storage Field, abandonment in-place of the associated well pipelines and any associated facilities;

• construction and operation of a new horizontal well, associated pipelines, and ancillary facilities at the Hunters Cave Storage Field;

• construction and operation of a new horizontal well, associated pipelines, and ancillary facilities at the Swarts Complex;

• expansions of the existing Morris Interconnect and Pierce Gates Valve Yards at the Hunters Cave Storage Field;

• acquisition of non-jurisdictional gathering assets from EQM Gathering Opco, LLC (pipelines and related equipment) for operation of the new Swarts Horizontal Storage Well; and

• the sale of 580 million cubic feet of base gas from the Swarts Complex.

Background

On August 2, 2023, the Commission issued a Notice of Scoping Period Requesting Comments on Environmental Issues for the Proposed Swarts and Hunters Cave Well Replacement Project (Notice of Scoping). The Notice of Scoping was sent to affected landowners; federal, state, and local government agencies; elected officials; environmental and public interest groups; Native American tribes; other interested parties; and local libraries and newspapers. In response to the Notice of Scoping, the Commission received one comment from the U.S. Environmental Protection Agency, Region III. The U.S. Environmental Protection Agency, Region III provided general guidance and recommendations for consideration in the development of the NEPA document. The Commission also received a comment from the Delaware Nation requesting further information on project specifics, cultural resources, and the Section 106 process. All substantive comments received will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-507), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 1, 2023.
Kimberly D. Bose,
Secretary.

[FR Doc. 2023-19403 Filed 9-7-23; 8:45 am]

BILLING CODE 6717-01-P